DEPARTMENT OF COMMERCE

International Trade Administration

[A-570-863]

Notice of Final Results of Antidumping Duty New Shipper Review: Honey From the People's Republic of China

AGENCY: Import Administration, International Trade Administration, U.S. Department of Commerce.

SUMMARY: On June 2, 2003, the Department published the preliminary results of the new shipper review of the antidumping duty order on honey from the People's Republic of China (68 FR 33099). The review covers one producer/exporter, Wuhan Bee Healthy Co., Ltd. (Wuhan), and exports of the subject merchandise to the United States during the period December 1, 2001, through May 31, 2002.

Based on our analysis of the record, including factual information obtained since the preliminary results, we have made changes to Wuhan's margin calculations to adjust the Indian surrogate values used to value the raw honey input, and to adjust our calculation of the financial ratios and their application in our normal value calculation. We also adjusted the cost of manufacture (COM) to offset for Wuhan's by-product revenues. Therefore, the final results differ from the preliminary results. See “Final Results of Review” section below.

EFFECTIVE DATE: October 31, 2003.

FOR FURTHER INFORMATION CONTACT: Angelica Mendoza or Donna Kinsella, AD/CVD Enforcement, Import Administration, International Trade Administration, U.S. Department of Commerce, 14th Street and Constitution Avenue, NW., Washington, DC 20230; telephone: (202) 482-3019 or (202) 482-0194, respectively.

SUPPLEMENTARY INFORMATION:

Background

On January 23, 2003, the Department extended the preliminary results of this new shipper review by 120 days until May 27, 2003. See Honey from the People's Republic of China: Extension of Time Limits for Preliminary Results of New Shipper Antidumping Duty Review, 68 FR 4761 (January 30, 2003).

We published in the Federal Register the preliminary results of this new shipper review on June 3, 2003. See Notice of Preliminary Results of Antidumping Duty New Shipper Review: Honey from the People's Republic of China, 68 FR 33099 (June 3, 2003) (Preliminary Results). On July 16, 2003, the Department extended the final results of this new shipper review by 60 days until October 24, 2003. See Honey from the People's Republic of China: Extension of Time Limit of Final Results of New Shipper Review, 68 FR 42001 (July 16, 2003). See also Memorandum to the File through Donna L. Kinsella: Correction of Notice of Extension of Time Limit of Final Results of New Shipper Review; Honey from the People's Republic of China (A-570-863) dated July 22, 2003.

The period of review (POR) is December 1, 2001, through May 31, 2002. We invited parties to comment on our Preliminary Results. We received case briefs from Wuhan Bee Healthy Co., Ltd. (Wuhan) and petitioners (the American Honey Producers Association and the Sioux Honey Association (collectively, petitioners)), on July 21, 2003. We received rebuttal briefs from the same parties on July 28, 2003. On July 31, 2003, we held a public hearing for this new shipper review.

Scope of the Antidumping Duty Order

The products covered by this order are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise subject to this review is currently classifiable under subheadings 0409.00.00, 1702.90.90, and 2106.90.99 of the Harmonized Tariff Schedule of the United States (HTSUS). Although the HTSUS subheadings are provided for convenience and the U.S. Customs and Border Protection (CBP) purposes, the Department's written description of the merchandise under order is dispositive.

Analysis of Comments Received

All issues raised in the briefs are addressed in the Issues and Decision Memorandum, which is hereby adopted by this notice. A list of the issues raised, all of which are in the Issues and Decision Memorandum, is attached to this notice as Appendix I. Parties can find a complete discussion of all issues raised in the briefs and the corresponding recommendations in this public memorandum which is on file in the Central Records Unit, room B-099 of the main Department building. In addition, a complete version of the Issues and Decision Memorandum can be accessed directly on the Web at http://ia.ita.doc.gov. The paper copy and electronic version of the Issues and Decision Memorandum are identical in content.

Changes Since the Preliminary Results

Based on the use of additional publicly available information and the comments received from the interested parties, we have made changes to the margin calculation for Wuhan. For a discussion of these changes, see Issues and Decision Memorandum. For business proprietary details of our analysis of the changes described below to our preliminary margin calculations, see Memo to the File regarding Analysis of the Data Submitted by Wuhan Bee Healthy Co., Ltd. in the Final Results of the New Shipper Review on the Antidumping Duty Order on Honey from the People's Republic of China (October 24, 2003) (Final Analysis Memo) and Memo to the File regarding Final Results of New Shipper Review of the Antidumping Duty Order on Honey from the People's Republic of China; Factors of Production Valuation (October 24, 2003) (Final FOP Memo).

For the final results, we adjusted the surrogate value used to calculate the cost of the raw honey input to reflect more accurately monthly raw honey price increases in India during the POR. See Issues and Decision Memorandum at Comment 2 and Final FOP Memo at 2 and Attachments 2 and 3.

We continue to calculate surrogate ratios for factory overhead (FO), selling, general and administrative expenses (SG&A), and profit using the 2001-2002 annual report from the Mahabaleshwar Honey Producers Cooperative (MHPC). However, we did adjust our calculations of the FO and SG&A surrogate ratios. See Issues and Decision Memorandum at Comment 3 and Final FOP Memo at 3 and Attachment 9.

In accordance with the Department's current practice, for these final results, we have also adjusted our calculation of Wuhan's COM to account for its by-product revenue. To accomplish this, we applied the above-mentioned surrogate ratios as adjusted to Wuhan's COM exclusive of the by-product offset, because the denominator in the ratio and the amount to which the ratio is applied must be on the same basis. See Notice of Amended Preliminary Antidumping Duty Determination of Sales at Less Than Fair Value: Certain Frozen Fish Fillets from the Socialist Republic of Vietnam, 68 FR 10440 (March 5, 2003). See Final Analysis Memo at 2 and Final FOP Memo at Attachment 11.

Final Results of Review

We determine that the following antidumping margin percentage exists for Wuhan during the period December 1, 2001, through May 31, 2002:

Manufacturer and exporter | Margin (percent)
Wuhan Bee Healthy Co., Ltd. | 32.84

Assessment of Antidumping Duties

The Department shall determine, and CBP shall assess, antidumping duties on all appropriate entries. In accordance with 19 CFR 351.212(b)(1), we have calculated an exporter/importer specific assessment rate for merchandise subject to this review. The Department will issue appropriate assessment instructions directly to CBP within 15 days of publication of the final results of review. We will direct CBP to assess the resulting assessment rates against the CBP entered values for the subject merchandise on each of the importer's/customer's entries during the review period.

Cash Deposits Requirements

Bonding will no longer be permitted to fulfill security requirements for shipments from Wuhan of honey from the PRC entered, or withdrawn from warehouse, for consumption in the United States on or after the publication of this notice in the Federal Register.

The above cash deposit rate shall be required for shipments of honey that is both produced and exported by Wuhan, entered, or withdrawn from warehouse, for consumption on or after the publication date of these final results for this new shipper review, as provided by section 751(a)(1) of the Act. These deposit requirements shall remain in effect until publication of the final results of the next administrative review. There are no changes to the rates applicable to any other company under this antidumping duty order.

Notification to Interested Parties

The Department will disclose calculations performed in connection with these final results of review within five days of the date of publication of this notice in accordance with 19 CFR 351.224(b). This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

This new shipper review and notice are in accordance with sections 751(a)(2)(B) and 777(i)(1) of the Act.

Dated: October 24, 2003.
James J. Jochum,
Assistant Secretary for Import Administration.

Appendix I

Comments Discussed in Issues and Decision Memorandum

1. Bona Fides of Wuhan Bee Healthy Co., Ltd.'s U.S. Sale.

2. Surrogate Value for Raw Honey.

3. Factory Overhead, SG&A, and Profit Ratios.

4. Surrogate Value for Coal.

5. Surrogate Value for Electricity.

6. Exclusion of Certain Import Data in Calculating Certain Surrogate Values.

[FR Doc. 03-27493 Filed 10-30-03; 8:45 am]

BILLING CODE 3510-DS-P